DEPARTMENT OF ENERGY

Federal Energy Regulatory Commission

Combined Notice of Filings #2

Take notice that the Commission received the following electric rate filings:

Docket Numbers: ER13-388-001.

Applicants: Sky River LLC.

Description: Sky River LLC Request to Defer Action on Shared Facilities Agreement to be effective 12/31/9998.

Filed Date: 1/8/13.

Accession Number: 20130108-5112.

Comments Due: 5 p.m. ET 1/29/13.

Docket Numbers: ER13-727-000.

Applicants: Southern California Edison Company.

Description: SGIA and Distribution Service Agmt Victor Mesa Linda A Project to be effective 1/9/2013.

Filed Date: 1/8/13.

Accession Number: 20130108-5064.

Comments Due: 5 p.m. ET 1/29/13.

Docket Numbers: ER13-728-000.

Applicants: PJM Interconnection, L.L.C.

Description: Original Service Agreement No. 3456; Queue No. X1-032 to be effective 12/14/2012.

Filed Date: 1/8/13.

Accession Number: 20130108-5079

Comments Due: 5 p.m. ET 1/29/13.

Docket Numbers: ER13-729-000.

Applicants: ISO New England Inc.

Description: ISO New England Inc. Resource Termination Filing—MATEP LLC.

Filed Date: 1/8/13.

Accession Number: 20130108-5107.

Comments Due: 5 p.m. ET 1/29/13.

Docket Numbers: ER13-730-000.

Applicants: Desert View Power, Inc.

Description: Amendment to Power Purchase Agreement to be effective 5/1/2012.

Filed Date: 1/8/13.

Accession Number: 20130108-5135.

Comments Due: 5 p.m. ET 1/29/13.

Docket Numbers: ER13-731-000.

Applicants: PJM Interconnection, L.L.C.

Description: Original Service Agreement No. 3457; Queue No. X3-082 to be effective 12/11/2012.

Filed Date: 1/8/13.

Accession Number: 20130108-5139.

Comments Due: 5 p.m. ET 1/29/13.

Docket Numbers: ER13-732-000.

Applicants: PJM Interconnection, L.L.C.

Description: Original Service Agreement No. 3458; Queue No. X3-083 to be effective 12/11/2012.

Filed Date: 1/8/13.

Accession Number: 20130108-5147.

Comments Due: 5 p.m. ET 1/29/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 8, 2013.
Nathaniel J. Davis, Sr.,
Deputy Secretary.

[FR Doc. 2013-00631 Filed 1-14-13; 8:45 am]

BILLING CODE 6717-01-P